DEPARTMENT OF TRANSPORTATION

Federal Aviation Administration

14 CFR Part 39

[Docket No. FAA-2016-9430; Directorate Identifier 2016-NM-051-AD]

RIN 2120-AA64

Airworthiness Directives; ATR-GIE Avions de Transport Régional Airplanes

AGENCY: Federal Aviation Administration (FAA), DOT.

ACTION: Notice of proposed rulemaking (NPRM).

SUMMARY: We propose to adopt a new airworthiness directive (AD) for certain ATR-GIE Avions de Transport Régional Model ATR42-500 and Model ATR72-102, -202, -212, and -212A airplanes. This proposed AD was prompted by reports of failure of emergency power supply units (EPSUs) in production and in service. This proposed AD would require an inspection to determine the part number and serial number of each EPSU, and replacement if necessary. We are proposing this AD to address the unsafe condition on these products.

DATES: We must receive comments on this proposed AD by January 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For ATR service information identified in this NPRM, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com.

For COBHAM service information identified in this NPRM, contact COBHAM 174-178 Quai de Jemmapes, 75010, Paris, France; telephone +33 (0) 1 53 38 98 98; fax +33 (0) 1 42 00 67 83.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9430; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, WA 98057-3356; telephone 425-227-1112; fax 425-227-1149.

SUPPLEMENTARY INFORMATION:

Comments Invited

We invite you to send any written relevant data, views, or arguments about this proposed AD. Send your comments to an address listed under the ADDRESSES section. Include “Docket No. FAA-2016-9430; Directorate Identifier 2016-NM-051-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2016-0070, dated April 11, 2016; corrected April 12, 2016 (referred to after this as the Mandatory Continuing Airworthiness Information, or “the MCAI”); to correct an unsafe condition for certain ATR-GIE Avions de Transport Régional Model ATR42-500 and Model ATR72 -102, -202, -212, and -212A airplanes. The MCAI states:

Some failure cases have been reported of emergency power supply units (EPSU), Part Number (P/N) 301-3100 Amdt [Amendment] A, both on the production line and in service. The results of the technical investigations revealed that these failures could have been caused by a defective internal electronic component, which could affect the EPSU internal battery charge.

To address this potential unsafe condition, ATR issued Service Bulletin (SB) ATR42-33-0050 and SB ATR72-33-1043 to provide instructions to inspect EPSUs.

For the reason described above, this [EASA] AD requires identification and replacement of the affected EPSUs with serviceable units.

This [EASA] AD was republished to correct two typographical errors in paragraph (3) of the [EASA] AD and to specify the correct Revision (3) of the Cobham SB 301-3100-33-002.

You may examine the MCAI in the AD docket on the Internet at http://www.regulations.gov by searching for and locating Docket No. FAA-2016-9430.

Related Service Information Under 1 CFR Part 51

ATR has issued Service Bulletin ATR42-33-0050, Revision 01, dated January 26, 2016; and ATR Service Bulletin ATR72-33-1043, Revision 01, dated January 26, 2016. This service information describes procedures for inspecting an EPSU to determine the part number, serial number, and amendment level, and replacing the EPSU. These documents are distinct since they apply to different airplane models.

Cobham has issued COBHAM Service Bulletin 301-3100-33-002, Revision 3, dated July 30, 2015, which describes procedures for modifying an EPSU by replacing the printed circuit board.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 11 airplanes of U.S. registry.

We estimate the following costs to comply with this proposed AD:

Estimated Costs
Action | Labor cost | Parts cost | Cost per product | Cost on U.S. operators
Inspection | 1 work-hour × $85 per hour = $85 per EPSU | $0 | $85 per EPSU (4 EPSUs per airplane) | $3,740

We estimate the following costs to do any necessary replacements that would be required based on the results of the proposed inspection. We have no way of determining the number of airplanes that might need these replacements:

On-Condition Costs
Action | Labor cost | Parts cost | Cost per product
Replacement | 1 work-hour × $85 per hour = $85 per EPSU | Not available | $85

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

ATR—GIE Avions de Transport Régional: Docket No. FAA-2016-9430; Directorate Identifier 2016-NM-051-AD.

(a) Comments Due Date

We must receive comments by January 17, 2017.

(b) Affected ADs

None.

(c) Applicability

This AD applies to the ATR-GIE Avions de Transport Régional airplanes, certificated in any category, identified in paragraphs (c)(1) and (c)(2) of this AD.

(1) Model ATR42-500 airplanes, all manufacturer serial numbers (MSNs), except those on which ATR Modification 6780 has been embodied in production.

(2) Model ATR72-102, -202, -212, and -212A airplanes, all MSNs on which ATR Model 3715 has been embodied in production, except those on which ATR Modification 6780 has been embodied in production.

(d) Subject

Air Transport Association (ATA) of America Code 33, Lights.

(e) Reason

This AD was prompted by reports of failure of emergency power supply units (EPSUs) in production and in service. We are issuing this AD to detect and correct defective internal electronic components, which could adversely affect the EPSU internal battery. This condition could result in a partial or total loss of emergency lighting, possibly affecting passenger evacuation during an emergency situation.

(f) Compliance

Comply with this AD within the compliance times specified, unless already done.

(g) Inspection of EPSU and Corrective Action

Within 12 months after the effective date of this AD, inspect each EPSU on the airplane to determine the part number and serial number. For any EPSU having part number (P/N) 301-3100 Amendment (Amdt) A and a serial number identified in figure 1 to paragraph (g) of this AD, and that does not have a control sticker marked with “SIL 301-3100-33-001”: Except as provided by paragraph (i) of this AD, before further flight, replace the EPSU with a serviceable unit, as specified in paragraph (h) of this AD, in accordance with the Accomplishment Instructions of ATR Service Bulletin ATR42-33-0050, Revision 01, dated January 26, 2016; or Service Bulletin ATR72-33-1043, Revision 01, dated January 26, 2016; as applicable. A review of airplane maintenance records may be done in lieu of inspection of the EPSUs on the airplane if the part number and serial number of each EPSU can be positively determined from that review.

Figure 1 to Paragraph (g) of This AD—Affected Serial Numbers of EPSU P/N 301-3100 Amdt A
Affected Serial Numbers of EPSU P/N 301-3100 Amdt A
2905 | 4929 | 4960 | 4994 | 5025 | 5077 | 5113 | 5156
2906 | 4930 | 4961 | 4995 | 5026 | 5079 | 5114 | 5157
3401 | 4931 | 4962 | 4996 | 5027 | 5080 | 5115 | 5158
3697 | 4932 | 4963 | 4997 | 5028 | 5081 | 5116 | 5159
3825 | 4933 | 4964 | 4998 | 5029 | 5082 | 5117 | 5160
4343 | 4934 | 4965 | 4999 | 5031 | 5083 | 5118 | 5161
4420 | 4935 | 4966 | 5000 | 5032 | 5084 | 5119 | 5162
4634 | 4936 | 4967 | 5001 | 5033 | 5085 | 5120 | 5163
4706 | 4937 | 4968 | 5002 | 5034 | 5086 | 5121 | 5164
4707 | 4938 | 4969 | 5003 | 5038 | 5087 | 5122 | 5166
4708 | 4939 | 4970 | 5004 | 5041 | 5088 | 5123 | 5171
4709 | 4940 | 4971 | 5005 | 5042 | 5089 | 5124 | 5172
4710 | 4941 | 4972 | 5006 | 5046 | 5090 | 5125 | 5173
4711 | 4942 | 4973 | 5007 | 5047 | 5091 | 5126 | 5174
4712 | 4943 | 4976 | 5008 | 5050 | 5092 | 5127 | 5175
4713 | 4944 | 4977 | 5009 | 5052 | 5096 | 5128 | 5176
4714 | 4945 | 4978 | 5010 | 5054 | 5097 | 5129 | 5177
4715 | 4946 | 4979 | 5011 | 5055 | 5098 | 5130 | 5178
4716 | 4947 | 4980 | 5012 | 5056 | 5099 | 5131 | 5179
4717 | 4948 | 4981 | 5013 | 5058 | 5100 | 5132 | 5180
4718 | 4949 | 4982 | 5014 | 5059 | 5101 | 5133 | 5181
4719 | 4950 | 4983 | 5015 | 5065 | 5103 | 5134 | 5182
4720 | 4951 | 4984 | 5016 | 5067 | 5104 | 5135 | 5183
4721 | 4952 | 4985 | 5017 | 5068 | 5105 | 5136 | 5184
4722 | 4953 | 4986 | 5018 | 5069 | 5106 | 5138 | 5185
4723 | 4954 | 4987 | 5019 | 5070 | 5107 | 5139 | 5186
4724 | 4955 | 4988 | 5020 | 5071 | 5108 | 5140 | 5187
4745 | 4956 | 4989 | 5021 | 5072 | 5109 | 5147 | None
4926 | 4957 | 4990 | 5022 | 5073 | 5110 | 5153 | None
4927 | 4958 | 4991 | 5023 | 5075 | 5111 | 5154 | None
4928 | 4959 | 4993 | 5024 | 5076 | 5112 | 5155 | None

(h) Definition of Serviceable EPSU

For the purpose of this AD, a serviceable EPSU is one that meets the criteria in paragraph (h)(1), (h)(2), or (h)(3) of this AD.

(1) Has P/N 301-3100 Amdt A and a serial number that is not included figure 1 to paragraph (g) of this AD.

(2) Has P/N 301-3100 Amdt A, a serial number that is included in figure 1 to paragraph (g) of this AD, but has a control sticker marked with “SIL 301-3100-33-001.”

(3) Has P/N 301-3100 Amdt B, or later amendment.

(i) Alternative Modification of Affected EPSU

In lieu of the replacement required by paragraph (g) of this AD, modification of an affected EPSU may be done in accordance with the Accomplishment Instructions of COBHAM Service Bulletin 301-3100-33-002, Revision 3, dated July 30, 2015.

(j) Parts Installation Prohibition

As of the effective date of this AD, no person may install on any airplane any EPSU having P/N 301-3100 Amdt A and a serial number identified in figure 1 to paragraph (g) of this AD, unless it has a control sticker marked with “SIL 301-3100-33-001”.

(k) Credit for Previous Actions

This paragraph provides credit for actions required by paragraph (g) of this AD, if those actions were performed before the effective date of this AD using the service information identified in paragraph (k)(1) or (k)(2) of this AD, provided it can be determined that no EPSU having a serial number listed in figure 1 to paragraph (g) of this AD has been installed on that airplane since the actions in the applicable service bulletin were completed.

(1) ATR Service Bulletin ATR42-33-0050, dated December 11, 2015.

(2) ATR Service Bulletin ATR72-33-1043, dated December 11, 2015.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone 425-227-1112; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or ATR—GIE Avions de Transport Régional's EASA Design Organization Approval (DOA). If approved by the DOA, the approval must include the DOA-authorized signature.

(m) Related Information

(1) Refer to Mandatory Continuing Airworthiness Information (MCAI) EASA AD 2016-0070, dated April 11, 2016; corrected April 12, 2016; for related information. This MCAI may be found in the AD docket on the Internet at http://www.regulations.gov by searching for and locating Docket No. FAA-2016-9430.

(2) For ATR service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. For Cobham service information identified in this AD, contact COBHAM 174-178 Quai de Jemmapes, 75010, Paris, France; telephone +33 (0) 1 53 38 98 98; fax +33 (0) 1 42 00 67 83. You may view this service information at the FAA, Transport Airplane Directorate, 1601 Lind Avenue SW., Renton, WA. For information on the availability of this material at the FAA, call 425-227-1221.

Issued in Renton, Washington, on November 17, 2016.
Phil Forde,
Acting Manager, Transport Airplane Directorate, Aircraft Certification Service.

[FR Doc. 2016-28618 Filed 11-30-16; 8:45 am]

BILLING CODE 4910-13-P